DEPARTMENT OF TRANSPORTATION

[Docket No. DOT-OST-2015-0255]

Agency Information Collection Activities: Request for Comments; Clearance of a New Information Collection(s): Voluntary Web-Based Questionnaire of Disadvantaged Business Enterprise Firms

AGENCY: Office of the Secretary, U.S. Department of Transportation.

ACTION: Notice and request for comments.

SUMMARY: In accordance with the Paperwork Reduction Act of 1995, (44 U.S.C. 3501 et seq.), this notice announces the U.S. Department of Transportation's (DOT) intention to request the Office of Management and Budget's (OMB) approval for the utilization of the Voluntary Web-Based Questionnaire of Disadvantaged Business Enterprise Firms. The questionnaire will be for the use of firms certified as a Disadvantaged Business Enterprise (DBE). DBE's that choose to participate will be asked to provide information regarding the nature of their business and bidding history, and perceived barriers/challenges that may have prevented them from receiving a contract or successfully competing in DOT's DBE program. A link to the survey will be made available by DOT's Departmental Office of Civil Rights for use by the Department's state and local recipients, which can in turn post this link on their own Web sites. The information collected will be used to assist DOT in measuring whether the DBE program is achieving its objectives.

DATES: Comments on this notice must be received by February 29, 2016.

ADDRESSES: You may submit comments [identified by Docket No. DOT-OST-2015-XXXX] through one of the following methods:

• Federal eRulemaking Portal: http://www.regulations.gov. Follow the online instructions for submitting comments.

• Fax: 202-493-2251.

• Mail: Docket Management Facility, U.S. Department of Transportation, 1200 New Jersey Avenue SE., West Building, Room W12-140, Washington, DC 20590.

• Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Marc D. Pentino, Departmental Office of Civil Rights, Office of the Secretary, U.S. Department of Transportation, 1200 New Jersey Avenue SE., Washington, DC, 20590; 202-366-4648; marc.pentino@dot.gov.

SUPPLEMENTARY INFORMATION:

OMB Control Number: XXXX—NEW.

Title: Voluntary Web-Based Questionnaire of Disadvantaged Business Enterprise Firms.

Form Numbers: None.

Type of Review: OMB Approval.

Background: The DOT's Operating Administrations distribute substantial funds each year to finance construction projects initiated by state and local governments, public transit and airport agencies. The DOT has the important responsibility of ensuring that firms competing for DOT-assisted contracts for these projects are not disadvantaged by unlawful discrimination. The DOT's most important tool for meeting this requirement has been its DBE program, which originally began in 1980 as a minority/women's business enterprise program established by regulation under the authority of Title VI of the Civil Rights Act of 1964 and other nondiscrimination statutes that apply to DOT financial assistance programs. The DBE program was reauthorized by Congress several times since its inception; most recently in the “Moving Ahead for Progress in the 21st Century Act” or the “MAP-21,” (Pub. L. 112-141, July 6, 2012, 126 Stat. 405), which funded surface transportation programs for highways, highway safety, and transit at over $105 billion for fiscal years 2013 and 2014. Section 1101(b) of the Act describes Congress's findings regarding the continued need for the DBE program due to the discrimination and related barriers that pose significant obstacles for minority and women-owned businesses seeking federally-assisted surface transportation work. The information requested will assist DOT in measuring whether the DBE program is achieving its objectives to create a level playing field on which DBEs can compete fairly or assist in the development of DBE firms to compete successfully in the marketplace.

Respondents: There are approximately 33,000 Disadvantaged Business Enterprises in the United States. Responses from this pool of businesses will vary due to the voluntary nature of the collection.

Estimated Number of Respondents: The DOT estimates less than 10% of firms will submit information, or approximately 3,000 businesses.

Estimated Total Burden on Respondents: 10 minutes per respondent.

Public Comments Invited: You are asked to comment on any aspect of this information collection, including (a) Whether the proposed collection of information is necessary for the proper performance of DOT's DBE program; (b) the accuracy of the estimated burden; (c) ways for the Department to enhance the quality, utility and clarity of the information collection; and (d) ways that the burden could be minimized without reducing the quality of the collected information. All responses to the notice will be summarized and included in the request for OMB approval. All comments will also become a matter of public record.

Issued in Washington, DC, on December 10, 2015.
Stephanie Jones,
Senior Counselor to the Secretary, Chief Opportunities Officer, and Acting Director, Departmental Office of Civil Rights.

[FR Doc. 2015-32859 Filed 12-29-15; 8:45 am]

BILLING CODE 4910-9X-P